ENVIRONMENTAL PROTECTION AGENCY

[FRL-6953-2]

Reopening of Comment Period for the Preliminary Administrative Determination Document on the Question of Whether Ferric Ferrocyanide Is One of the “Cyanides” Within the Meaning of the List of Toxic Pollutants Under the Clean Water Act

AGENCY: Environmental Protection Agency (EPA).

ACTION: Notice of reopening of comment period.

SUMMARY: The comment period for the preliminary administrative determination document on the question of whether ferric ferrocyanide is one of the “cyanides” within the meaning of the list of toxic pollutants under the Clean Water Act was scheduled to end on March 12, 2001. The comment period will now end 90 days later on June 10, 2001. The notice announcing document availability was published in the Federal Register on January 25, 2001 (66 FR 7759).

DATES: Comments will be accepted through June 10, 2001.

ADDRESSES: Mail written comments to: FFC Administrative Determination, USEPA, Engineering and Analysis Division (4303), Office of Science and Technology, Ariel Rios Building, 1200 Pennsylvania Avenue, NW, Washington, DC 20460.

FOR FURTHER INFORMATION CONTACT: For further information and to request a copy of the administrative determination, contact Dr. Maria Gomez-Taylor, USEPA, Engineering and Analysis Division (4303), Office of Science and Technology, Ariel Rios Building, 1200 Pennsylvania Avenue, NW, Washington, DC 20460; or call (202) 260-1639; or fax (202) 260-7185; or e-mail gomez-taylor.maria@epa.gov.

SUPPLEMENTARY INFORMATION: On January 25, 2001, EPA published in the Federal Register (66 FR 7759) a notice announcing availability of the preliminary administrative determination document and a public comment period that was scheduled to end on March 12, 2001. EPA received requests for additional time to provide comments. This action provides an additional 90 days, for a total of four-and-a-half months, for public comments.

Dated: March 7, 2001.
Diane C. Regas,
Acting Assistant Administrator for Water.

[FR Doc. 01-6184 Filed 3-12-01; 8:45 am]

BILLING CODE 6560-50-P